DEPARTMENT OF HEALTH AND HUMAN SERVICES

[Document Identifier: OS-0990-0458 Revision]

Agency Information Collection Request; 60-Day Public Comment Request

AGENCY: Office of the Secretary, HHS.

ACTION: Notice.

SUMMARY: In compliance with section 3506(c)(2)(A) of the Paperwork Reduction Act of 1995, the Office of the Secretary (OS), Department of Health and Human Services, announces plans to submit a revision to an existing Information Collection Request (ICR), described below, to the Office of Management and Budget (OMB). Prior to submitting the revision of the ICR to OMB, OS seeks comments from the public regarding the burden estimate, below, or any other aspect of the ICR.

DATES: Comments on the ICR must be received on or before May 6, 2019.

ADDRESSES: Submit your comments to Sherrette.Funn@hhs.gov or by calling (202) 795-7714.

FOR FURTHER INFORMATION CONTACT: When submitting comments or requesting information, please include the document identifier OS-0990-0458 Revision, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: Domestic Violence Housing First Demonstration Evaluation.

Type of Collection: Revision.

OMB No.: 0990-0458.

Abstract: The Office of the Assistant Secretary for Planning and Evaluation (ASPE) within the U.S. Department of Health and Human Services, in partnership with the Office for Victims of Crimes within the U.S. Department of Justice, is seeking approval by OMB for a revision to add a 24-month follow-up data collection to an existing information collection request entitled, “Domestic Violence Housing First (DVHF) Demonstration Evaluation” (OMB Control Number: HHS-OS-0990-0458). The Washington State Coalition Against Domestic Violence (WSCADV) is overseeing and coordinating an evaluation of the DVHF Demonstration project through a contract with ASPE. This quasi-experimental research study involves longitudinally examining the program effects of DVHF on domestic violence survivors' safety and housing stability. The findings will be of interest to the general public, to policy-makers, and to organizations working with domestic violence survivors.

Current data collection that has been approved by OMB includes in-depth, private interviews with 320 domestic violence survivors conducted by trained professional staff. The data are currently approved for collection at study enrollment (Time 1), and at follow-up interviews every six months after the Time 1 Interview (i.e., 6, 12, and 18 months) to examine the match between needs and services, as well as their safety and housing stability. The proposed revision to the collection would add a fourth follow-up data collection to be administered 24 months after study enrollment (Time 1) to examine longer-term impacts of the Domestic Violence Housing First Demonstration program. The follow-up survey is identical to the one used at the 6, 12, and 18 month follow-up. The respondents are domestic violence survivors who are enrolled in the Domestic Violence Housing First Demonstration Evaluation (OMB Control Number HHS-OS-0990-0458). Study enrollment is taking place over 15 months, so the annualized burden for the 24-month follow-up survey is based on 12/15 (256) of the expected sample (320).

Annualized Burden Hour Table
Form name | Type of respondent | Annual number of respondents | Number of responses per respondent | Average burden hours per response | Total annual burden hours
Follow-up Interview | Domestic violence survivors | 256 | 1 | 1.25 | 320
Total |  |  |  |  | 320

Dated: February 7, 2019.
Terry Clark,
Asst Paperwork Reduction Act Reports Clearance Officer, Office of the Secretary.

[FR Doc. 2019-03960 Filed 3-4-19; 8:45 am]

BILLING CODE 4150-05-P